DEPARTMENT OF DEFENSE

Defense Acquisition Regulations System

48 CFR Parts 212, 242, 247, and 252

RIN 0750-AH53

Defense Federal Acquisition Regulation Supplement: Shipping Instructions (DFARS Case 2011-D052)

AGENCY: Defense Acquisition Regulations System, Department of Defense (DoD).

ACTION: Final rule.

SUMMARY: DoD is issuing a final rule amending the Defense Federal Acquisition Regulation Supplement (DFARS) to update the form used by contractors to request shipping instructions and the associated contract clause and clause prescription to cover both commercial and Government bills of lading, and to relocate the coverage within the DFARS.

DATES: Effective Date: June 29, 2012.

FOR FURTHER INFORMATION CONTACT: Ms. Meredith Murphy, Procurement Analyst, telephone 571-372-6098.

SUPPLEMENTARY INFORMATION:

I. Background

DoD published a proposed rule in the Federal Register at 77 FR 4637 on January 30, 2012, to relocate information from DFARS subpart 242.14 to DFARS part 247 to align with changes to the Federal Acquisition Regulation and to update DD Form 1659, Application for U.S. Government Shipping Documentation/Instructions, to provide for use of both commercial and Government bills of lading. No respondents submitted public comments in response to the proposed rule.

II. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993. This rule is not a major rule under 5 U.S.C. 804.

III. Regulatory Flexibility Act

DoD certifies that this final rule will not have a significant economic impact on a substantial number of small entities within the meaning of the Regulatory Flexibility Act, 5 U.S.C. 601, et seq., because there are no substantive changes being made by this rule. The rule makes only two minor changes in terminology in the DD Form 1659 and the associated clause at DFARS 252.247-7028 (formerly DFARS 252.242-7003) in order to clarify that the DD Form 1659 can be used to request a bill of lading that inputs these shipments into the Defense Transportation System (DTS). The purpose of this form is to obtain shipping instructions, a practice that has been in effect for many years. Requesting shipping instructions does not impose a hardship on any entity. No comments were received from any entities concerning the impact of the proposed change on small business.

IV. Paperwork Reduction Act

This rule affects the certification and information collection requirements in the clause at DFARS 252.247-7028 (formerly DFARS 252.242-7003), Application for U.S. Government Shipping Documentation/Instructions, and the associated DD form 1659 (same title as the clause), currently approved under OMB Control Number 0704-0250, titled DFARS Part 242, Contract Administration and Audit Services, in the amount of 276,773 hours, in accordance with the Paperwork Reduction Act (44 U.S.C. chapter 35). The impact, however, is negligible, because only minor changes in terminology are being made. There are no substantive changes made either to the form or the associated clause at DFARS 252.247-7028 (formerly 252.242-7003). No public comments were received on the paperwork impact in response to the proposed rule.

List of Subjects in 48 CFR Parts 212, 242, 247, and 252.

Government procurement.

Ynette R. Shelkin,
Editor, Defense Acquisition Regulations System.

Therefore, 48 CFR parts 212, 242, and 252 are amended as follows:

1. The authority citation for 48 CFR parts 212, 242, and 252 continues to read as follows:

Authority: 41 U.S.C. 1303 and 48 CFR chapter 1.

PART 212—ACQUISITION OF COMMERCIAL ITEMS

2. Amend section 212.301 by adding paragraph (f)(iv)(P) to read as follows:

212.301 Solicitation provisions and contract clauses for the acquisition of commercial items.

(f) * * *

(iv) * * *

(P) Use the clause at 252.247-7028, Application for U.S Government Shipping Documentation/Instructions, as prescribed in 247.207.

* * * * *

PART 242—CONTRACT ADMINISTRATION AND AUDIT SERVICES

Subpart 242.14—[Removed]

3. Remove subpart 242.14.

PART 247—TRANSPORTATION

4. The authority citation for 48 CFR part 247 is revised to read as follows:

Authority: 41 U.S.C. 1303 and 48 CFR chapter 1.

5. Add subpart 247.1, consisting of section 247.101, to read as follows:

Subpart 247.1—General

247.101 Policies.

(h) Shipping documents covering f.o.b. origin shipments.

(i) Procedures for the contractor to obtain bills of lading are in the clause at 252.247-7028, Application for U.S. Government Shipping Documentation/Instructions.

(ii) The term “commercial bills of lading” includes the use of any commercial form or procedure.

6. Revise section 247.207 to read as follows:

247.207 Solicitation provisions, contract clauses, and special requirements.

(1) Use the clause at 252.247-7003, Pass-Through of Motor Carrier Fuel Surcharge Adjustment to the Cost Bearer, in solicitations and contracts for carriage in which a motor carrier, broker, or freight forwarder will provide or arrange truck transportation services that provide for a fuel-related adjustment.

(2) Use the clause at 252.247-7028, Application for U.S. Government Shipping Documentation/Instructions, when shipping under Bills of Lading and Domestic Route Order under FOB origin contracts, Export Traffic Release regardless of FOB terms, or foreign military sales shipments.

PART 252—SOLICITATION PROVISIONS AND CONTRACT CLAUSES

252.242-7003 [Removed and Reserved]

7. Remove and reserve section 252.242-7003.

8. Add section 252.247-7028 to read as follows:

252.247-7028 Application for U.S. Government Shipping Documentation/Instructions.

As prescribed in 247.207, use the following clause:

APPLICATION FOR U.S. GOVERNMENT SHIPPING DOCUMENTATION/INSTRUCTIONS (JUN 2012)

(a) Except as provided in paragraph (b) of this clause, the Contractor shall request bills of lading by submitting a DD Form 1659, Application for U.S. Government Shipping Documentation/Instructions, to the—

(1) Transportation Officer, if named in the contract schedule; or

(2) Contract administration office.

(b) If an automated system is available for shipment requests, use service/agency systems (e.g., Navy's Global Freight Management-Electronic Transportation Acquisition (GFM-ETA) and Financial Air Clearance Transportation System (FACTS) Shipment Processing Module, Air Force's Cargo Movement Operations System, DCMA's Shipment Instruction Request (SIR) E-tool, and DLA's Distribution Standard System Vendor Shipment Module in lieu of DD Form 1659.

(End of clause)

[FR Doc. 2012-15568 Filed 6-28-12; 8:45 am]

BILLING CODE 5001-06-P